DEPARTMENT OF JUSTICE

Antitrust Division

Notice Pursuant to the National Cooperative Research and Production Act of 1993—Ethernet in the First Mile Alliance

Notice is hereby given that, on January 16, 2002, pursuant to section 6(a) of the National Cooperative Research and Production Act of 1993, 15 U.S.C. 4301 et seq. (“the Act”), Ethernet in the First Mile Alliance (“EFMA”) filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are Accton Technology Corp., Hsinchu. TAIWAN; Alloptic, Inc., Livermore, CA; Cisco Systems, San Jose, CA; Elastic Networks, Alpharetta, GA; Ericsson Telecom AB, Plano, TX; Extreme Networks, Pleasanton, CA; Finisar Corporation, Sunnyvale, CA; Intel, Santa Clara, CA; Nippon Telegraph and Telephone Corp., Chiba, JAPAN; and World Wide Packets, Veradale, WA. The nature and objectives of the venture are to promote standard-based Ethernet in the First Mile technology and to encourage the utilization and implementation of Ethernet in the First Mile key networking technology for connectivity of various computing, data, and telecommunications devices.

Constance K. Robinson,
Director of Operations, Antitrust Division.

[FR Doc. 02-5541 Filed 3-7-02; 8:45 am]

BILLING CODE 4410-11-M